DEPARTMENT OF JUSTICE

Antitrust Division

Notice Pursuant to the National Cooperative Research and Production Act of 1993—Integrated Shipbuilding Environment Consortium

Notice is hereby given that, on December 7, 1999, pursuant to Section 6(a) of the National Cooperative Research and Production Act of 1993, 15 U.S.C. 4301 et seq. (“the Act”), the Integrated Shipbuilding Environment Consortium (“ISEC”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Electric Boat Corporation, Groton, CT; Intergraph Corporation, Huntsville, AL; Newport News Shipbuilding and Dry Dock Company, Newport News, VA; NIIP, Inc., Stamford, CT; and NNS Research Inc, Newport News, VA. The nature and objectives of the venture are the development of industry software protocols that will integrate electronic business environments across the U.S. shipbuilding industry.

Constance K. Robinson,
Director of Operations Antitrust Division.

[FR Doc. 00-10594 Filed 4-27-00; 8:45 am]

BILLING CODE 4410-11-M